DEPARTMENT OF ENERGY

[OE Docket No. EA-260-C]

Application To Export Electric Energy; EPCOR Energy Marketing (US) Inc.

AGENCY: Office of Electricity Delivery and Energy Reliability, DOE.

ACTION: Notice of application.

SUMMARY: EPCOR Energy Marketing (US) Inc. (EPCOR) has applied to renew its authority to transmit electric energy from the United States to Canada pursuant to section 202(e) of the Federal Power Act.

DATES: Comments, protests, or requests to intervene must be submitted on or before April 6, 2009.

ADDRESSES: Comments, protests or requests to intervene should be addressed as follows: Office of Electricity Delivery and Energy Reliability, Mail Code: OE-20, Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On April 8, 2002, the Department of Energy (DOE) issued Order No. EA-260 authorizing EPCOR Merchant and Capital (US) Inc. to transmit electric energy from the United States to Canada as a power marketer using international transmission facilities located at the United States border with Canada. On October 13, 2004, DOE issued Order No. EA-260-A which renewed that authorization for a five-year period. On November 21, 2006, DOE issued Order No. EA-260-B which amended the previous authorization to reflect a name change to EPCOR Energy Marketing (US) Inc. EPCOR's Order will expire on April 8, 2009. On February 9, 2009, EPCOR filed an application with DOE to renew the export authority contained in Order No. EA-260-A for an additional five-year term.

The electric energy which EPCOR proposes to export to Canada would be surplus energy purchased from electric utilities, Federal power marketing agencies, and other entities within the United States. EPCOR will arrange for the delivery of exports to Canada over the international transmission facilities owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, Vermont Electric Power Company, and Vermont Electric Transmission Co.

The construction, operation, maintenance, and connection of each of the international transmission facilities to be utilized by EPCOR has previously been authorized by a Presidential permit issued pursuant to Executive Order 10485, as amended.

Procedural Matters: Any person desiring to become a party to these proceedings or to be heard by filing comments or protests to this application should file a petition to intervene, comment, or protest at the address provided above in accordance with 385.211 or 385.214 of the Federal Energy Regulatory Commission's Rules of Practice and Procedures (18 CFR 385.211, 385.214). Fifteen copies of each petition and protest should be filed with DOE on or before the date listed above.

Comments on the EPCOR application to export electric energy to Canada should be clearly marked with Docket No. EA-260-C. Additional copies are to be filed directly with Ken Tsukishima, Director, Comodity Portfolio Management, EPCOR Energy Marketing (US) Inc., EPCOR Place, 505—2nd Street SW., 8th Floor, Calgary, Alberta T2P 1N8, Canada and Lisa H. Tucker, Esq., William M. Keyser, Esq., K&L Gates LLP, 1601 K Street, NW., Washington, DC 20006. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program website at http://www.oe.energy.gov/permits_pending.htm, or by emailing Odessa Hopkins at Odessa.Hopkins@hq.doe.gov.

Issued in Washington, DC, on March 2, 2009.
Anthony J. Como,
Director, Permitting and Siting, Office of Electricity Delivery and Energy Reliability.

[FR Doc. E9-4773 Filed 3-5-09; 8:45 am]

BILLING CODE 6450-01-P